DEPARTMENT OF TRANSPORTATION

Federal Aviation Administration

14 CFR Part 71

Proposed Modification of the Miami, FL, Class B Airspace Area; and the Ft Lauderdale, FL, Class C Airspace Area; Public Meetings

AGENCY: Federal Aviation Administration (FAA), DOT.

ACTION: Notice of meetings.

SUMMARY: This notice announces three fact-finding informal airspace meetings to solicit information from airspace users and others, concerning a proposal to revise the Class B airspace at Miami, FL, and the Class C airspace at Ft Lauderdale, FL. The purpose of these meetings is to provide interested parties an opportunity to present views, recommendations, and comments on the proposal. All comments received will be considered prior to any issuance of a notice of proposed rulemaking.

DATES: The informal airspace meetings will be held on Monday, January 28, 2013; Tuesday, January 29, 2013; and Wednesday, January 30, 2013. One meeting session will be held on January 28, beginning at 6:00 p.m. Two sessions will be held on January 29 and January 30, beginning at 2:00 p.m. and 6:00 p.m. Comments must be received on or before March 4, 2013.

ADDRESSES: (1) The meeting on Monday, January 28, 2013, will be held at the Wings Over Miami Air Museum, Kendall-Tamiami Executive Airport, 14710 SW 128th St., Miami, FL 33196 [Call 305-233-5197 for directions]; (2) The meeting on Tuesday, January 29, 2013, will be held at the Miami Dade College, 2460 NW 66th Avenue, Bldg. 701, Room 213, Miami, FL 33122 [Call 305-588-1959 for directions]; and (3) The meeting on Wednesday, January 30, 2013, will be held at the Miramar Town Center, 2050 Civic Center Place. Miramar, FL 33025 [Call 954-201-8084 for directions].

Comments: Comments on the proposal may be submitted by email to: 7-ASO-ESC-OSG-Airspace-Comments@faa.gov; or by mail to: Barry Knight, Manager, Operations Support Group, Eastern Service Area, Air Traffic Organization, Federal Aviation Administration, P.O. Box 20636, Atlanta, GA 30320.

FOR FURTHER INFORMATION CONTACT: Tony Russo, Support Manager, Miami ATCT/TRACON, 6400 NW. 22nd St., Miami, FL 33122; Telephone: 305-869-5403.

SUPPLEMENTARY INFORMATION:

Meeting Procedures

(a) The meetings will be open to all persons on a space-available basis. There will be no admission fee or other charge to attend and participate.

(b) The meetings will be informal in nature and will be conducted by one or more representatives of the FAA Eastern Service Area. Each participant will be given an opportunity to make a presentation, although a time limit may be imposed. Each person wishing to make a presentation to the FAA panel will be asked to sign in so those time frames can be established. The meetings may be adjourned at any time if all persons present have had an opportunity to speak.

(c) Position papers or other handout material relating to the substance of these meetings will be accepted. Participants submitting handout materials should present an original and two copies to the presiding officer. There should be an adequate number of copies for distribution to all participants.

(e) These meetings will not be formally recorded. However, a summary of comments made at the meetings will be filed in the docket.

Agenda for the Meetings

—Sign-in.

—Presentation of Meeting Procedures.

—Informal Presentation of the planned Airspace Modifications.

—Public Presentations and Discussions.

—Closing Comments.

There will be one session (beginning at 6:00 p.m.) on January 28 and two sessions (beginning at 2:00 p.m. and 6:00 p.m.) on both January 29 and January 30. FAA presentations will begin at the times listed. Each presentation will be the same, so attendees need not be present for both sessions. Attendees may arrive at any time at their convenience, and will not need to remain until the end. Following each FAA presentation there will be time for questions and presentations by attendees. Written comments may be submitted at any time during the meeting or via mail or email by March 4, 2013.

Information gathered through these meetings will assist the FAA in drafting a Notice of Proposed Rulemaking (NPRM). The public will be afforded the opportunity to comment on any NPRM published on this matter.

Issued in Washington, DC, on November 14, 2012.
Gary A. Norek,
Manager, Airspace Policy and ATC Procedures Group.

[FR Doc. 2012-28991 Filed 12-3-12; 8:45 am]

BILLING CODE 4910-13-P